OFFICE OF PERSONNEL MANAGEMENT

5 CFR Part 532

[Docket ID: OPM-2023-0028]

RIN 3206-AO64

Prevailing Rate Systems; North American Industry Classification System Based Federal Wage System Wage Surveys; Correction

AGENCY: Office of Personnel Management.

ACTION: Final rule; correction.

SUMMARY: This document corrects the amendatory instructions in a final rule that was published in the Federal Register on January 24, 2024, regarding updates to the North American Industry Classification System Based Federal Wage System Wage Surveys.

DATES: Effective February 23, 2024.

FOR FURTHER INFORMATION CONTACT: Ana Paunoiu, by telephone at (202) 606-2858, or by email at paypolicy@opm.gov.

SUPPLEMENTARY INFORMATION: In the Federal Register of January 24, 2024, in FR Doc. 2024-01086, beginning on page 4539, the following corrections are made:

§ 532.287 [corrected]

1. On page 4541, in the first column, in amendatory instruction 7 for § 532.287:

a. In instruction a., the instruction “Removing the column heading “2017 NAICS codes” and adding in its place “2022 NAICS codes” ” is corrected to read “Removing the “2012 NAICS Codes” and adding in its place “2022 NAICS codes” ”.

b. In instruction b., the instruction “Removing the column heading “2017 NAICS industry titles” and adding in its place “2022 NAICS industry titles” ” is corrected to read “Removing the column heading “2012 NAICS Industry titles” and adding in its place “2022 NAICS industry titles” ”.

Dated: February 1, 2024.
Kayyonne Marston,
Federal Register Liaison.

[FR Doc. 2024-02319 Filed 2-5-24; 8:45 am]

BILLING CODE 6325-39-P